DEPARTMENT OF DEFENSE

Office of the Secretary

[Docket ID: DoD-2015-OS-0037]

Proposed Collection; Comment Request

AGENCY: Defense Technical Information Center (DTIC), DoD.

ACTION: Notice.

SUMMARY: In compliance with the Paperwork Reduction Act of 1995, the Defense Technical Information Center (DTIC), DoD announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 22, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Technical Information Center (DTIC), 8725 John J. Kingman Road, ATTN: Ms. Angela Davis, Ft. Belvoir, VA 22060-6218, or call the DTIC Communications & Customer Access Division at 1-800-225-3842 (Option #3).

SUPPLEMENTARY INFORMATION: Title; Associated Form; and OMB Number: Defense User Registration System (DURS) Records; DD Form 2345 Militarily Critical Technical Data Agreement; OMB Control Number 0704-XXXX.

Needs and Uses: The information collection requirement is necessary to collect registration requests, validate eligibility, and maintain an official registry that identifies individuals who apply for, and are granted access privileges to DTIC owned or controlled computers, databases, products, services, and electronic information systems. Authority for maintenance of the system: E.O. 13526, Classified National Security Information; DoD Directive (DODD) 5105.73 Defense Technical Information Center (DTIC); DoDD 5230.25 Withholding of Unclassified Technical Data from Public Disclosure; DoD Instruction (DODI) 3200.12 DoD Scientific and Technical Information (STI) Program (STIP); DoDI 3200.14 Principles and Operational Parameters of the DoD Scientific and Technical Information Program; DoDI 5230.24 Distribution Statements on Technical Documents; DoD Manual 5200.01—Volume 3, DoD Information Security Program: Protection of Classified Information; and DoD Regulation 5200.2-R, Personnel Security Program.

Affected Public: Business or other for profit; Not-for-profit institutions; Federal Government.

Annual Burden Hours: 101.

Number of Respondents: 605 (Non-CAC Users who use DURS).

Responses per Respondent: 1.

Average Burden per Response: 10 minutes.

Frequency: On Occasion.

Department of Defense (DoD) military and civilian personnel and other U.S. Federal Government personnel, their contractors and grantees, designated officials and employees of foreign embassies according to agreements with DoD who request access privileges to DTIC products, services and electronic information systems.

Dated: April 17, 2015.
Aaron Siegel,
Alternate OSD Federal Register Liaison Officer, Department of Defense.

[FR Doc. 2015-09439 Filed 4-22-15; 8:45 am]

BILLING CODE 5001-06-P